POSTAL SERVICE

39 CFR Part 111

Postmarks and Postal Possession

AGENCY: Postal Service.

ACTION: Proposed rule.

SUMMARY: The United States Postal Service seeks comment on a proposed addition to the Mailing Standards of the United States Postal Service, Domestic Mail Manual (DMM). Specifically, the Postal Service proposes to add Section 608.11, “Postmarks and Postal Possession.” This Section will serve multiple purposes. It will define the postmark, will identify the types of Postal Service markings that qualify as postmarks, and will describe the circumstances under which those markings are applied. This Section will also explain that, while the presence of a postmark on a mailpiece confirms that the Postal Service was in possession of the mailpiece on the date of the postmark's inscription, the postmark date does not inherently or necessarily align with the date on which the Postal Service first accepted possession of a mailpiece. In addition, this Section will advise customers of the options available if they want evidence of the exact date on which the Postal Service first accepted possession of their mailpiece. The proposed DMM addition does not signal and would not effect a change in postmarking procedures; postmarks will continue to be applied to Single-Piece First Class Mail pieces, both letter-shaped and flat-shaped, in the same manner and to the same extent as before.

DATES: Comments must be received on or before September 11, 2025.

ADDRESSES: Mail or deliver written comments to the Director, Product Classification, U.S. Postal Service, 475 L'Enfant Plaza SW, Room 4446, Washington, DC 20260-3436. Email comments, containing the name and address of the commenter, may be sent to PCFederalRegister@usps.gov, with a subject line of “Postmarks and Postal Possession.” Faxed comments are not accepted. All submitted comments and attachments are part of the public record and subject to disclosure. Do not enclose any material in your comments that you consider to be confidential or inappropriate for public disclosure. You may inspect and photocopy all written comments, by appointment only, at USPS® Headquarters Library, 475 L'Enfant Plaza SW, 11th Floor North, Washington, DC 20260. These records are available for review Monday through Friday, 9 a.m. and 4 p.m. by calling 202-268-2906.

FOR FURTHER INFORMATION CONTACT: Martha Johnson, Senior Public Relations Representative, at martha.s.johnson@usps.gov or (202) 268-2000.

SUPPLEMENTARY INFORMATION: The Postal Service is using this rulemaking to explain the Postal Service's operational use of the postmark and the information conveyed by postmarks; to solicit feedback regarding the content proposed for the DMM and recommendations on how best to educate the public about the added DMM provision once it is finalized; to advise the public that customers who want a postmark aligning with the date on which the Postal Service first accepted possession of their mailpiece may request a manual (local) postmark at a retail location; and to remind the public of services available for purchase (including, but not limited to, Certificates of Mailing) that provide a receipt proving the exact date on which the Postal Service first accepted possession of the customer's mailpiece.

I. Introduction

This introduction begins by sketching the history of postmarking as it developed in the United States. It then describes the use and application of postmarks in the contemporary postal system and acknowledges the postmark's use by other parties in certain instances.

A. A Brief History of the Postmark

Contemporary postmarks encompass two separate markings with distinct origins: one that inscribes the date and place of application, and one that recognizes the payment of postage fees (i.e., via the obliteration or cancellation of pre-paid stamps).

Marks inscribing the date and place of application have a long history. Early postmarks in the United States resembled the British Post Office's “Bishopp Mark” (created in 1660), featuring in their top half the month and in their bottom half the date that the Post Office accepted the mailpiece. A February 20, 1792, “Act to Establish the Post-Office and Post Roads within the United States,” established postage fees based on distance travelled and number of sheets of paper, and postmarking practices evolved accordingly: though Congress would pass multiple bills tweaking the criteria for determining postage fees (for example, in 1845, price was indexed to weight rather than to the number of sheets of paper), United States mail thereafter regularly bore indications of the location and date of the mailpiece's origin and of the fee charged for postage. An Act of Congress in 1855 enforced pre-paid postage and empowered the Postmaster General to make made adhesive stamps compulsory. Shortly thereafter, postage stamps became the common currency of the mails.

At first, postage stamps were “canceled” or “obliterated” in a variety of ways, including with pen and ink, with the standard date-and-place postmark, or with a “killer” or “canceler” that used a variety of means (including stamping and, occasionally, tearing postage stamps) to prevent stamps from being reused. An order from the Postmaster General on July 23, 1860, prohibited the use of postmarks as canceling instruments; in consequence, two marks, the cancellation stamp and the postmark bearing a location and date, began to appear side by side—a pattern that remained prevalent even after 1863, when uniform prices were adopted for mail between all points within the United States. This pattern was subsequently taken up, in the second half of the 19th century, by early cancellation machines, and it remains visibly present today.

Thus, the “postmark” as it is known today historically consisted of two separate markings, with two distinct (albeit interrelated) functions. The cancellation marking served to prevent the reuse of pre-paid postage. The marking with a date and place, which originally correlated (in the United States at least) with a scheme of zoned fee assessments and therefore helped determine the price to be paid, provided an index of time and distance travelled. Both of these functions were created for purposes related to postal operations.

B. Use and Application of Postmarks in the Contemporary System

As in the past, modern postmarks consist of markings applied by the Postal Service to a mailpiece that: (1) display the location of the postal unit or facility that applied the marking and the date that the mailpiece was accepted by or first processed on equipment in that unit or facility, and (2) where necessary, cancel postage so that it may not be reused.

Modern postmarks are typically applied by automation at originating processing facilities, but they also can be applied manually at those facilities, or, upon a customer's request, at a retail location when a mailpiece is presented for mailing:

• Automated Machine Cancellations. For Single-Piece First Class Mail, postmarks are applied by automated cancellation machines (currently, by Advanced Facer Cancellation System (AFCS) machines for letter-shaped mail, and by Automated Flats Sorting Machines (AFSMs) for flat-shaped mail). These machines are located in originating processing facilities, including in Regional Processing and Distribution Centers (RPDCs) and select Local Processing Centers (LPCs) within the redesigned network to which the Postal Service is currently transitioning. (90 FR 10857). These machines position and cancel collection mail and perform a variety of other functions (e.g., reading barcodes on pre-barcoded mail and diverting certain mailpieces onto a reject stacker for additional processing). Machine-applied postmarks register the location of the processing facility and the date of the first automated processing operation performed on a mailpiece at that facility, and, where necessary, cancel postage.

• Manual Postmarks on Non-Machinable Mail at Processing Facilities. Where a mailpiece that would ordinarily be postmarked on an automated cancellation machine is unable to be canceled by the machine, the Postal Service may apply a manual postmark to the mailpiece at the originating processing facility. Like automated machine cancellations, these manual postmarks register the facility at which the mailpiece was received and the date the first automated processing operation would have been performed on a mailpiece at that facility.

• Postmarks at Retail Locations. While most postmarks are applied at processing facilities, the Postal Service makes manual (local) postmarks available, upon a customer's request, at the retail counter of every Post Office, station, or branch. Like postmarks applied in processing facilities, postmarks at retail locations cancel postage (if necessary), and indicate the location of the retail unit at which the postmark is applied. But because these postmarks are applied (upon a customer's request) at the retail counter when the mailpiece is tendered for mailing, the date on the postmark also aligns with the date on which the Postal Service first accepted possession of the mailpiece. Under Section 312.2 of the Postal Operations Manual, postmarks at retail locations are free of charge and are available for up to 50 mailpieces per customer; customers who wish to obtain such postmarks on more than 50 mailpieces should contact the local postmaster or other manager in advance to ensure that adequate resources are available to provide a manual (local) postmark.

• Postage Validation Imprint (PVI) Labels. PVI labels are the functional equivalent of postmarks applied at the retail counter. These labels are printed by Postal Service employees at retail locations and are applied to a mailpiece by Postal Service employees upon acceptance of the piece. These labels indicate the postage paid for a mailpiece and the location of the retail unit at which the mailpiece was accepted. Like a postmark applied at the retail counter, the date on a PVI label aligns with the date on which the Post Service first accepted possession of the mailpiece. PVI labels also contain various tracking information.

C. Third Party Uses of the Postmark

While the postmark's historic and current uses are tied to postal operations, the Postal Service is aware that customers and other entities have used certain components of postmarks for other purposes, including by looking to the fact of a postmark to confirm that a mailpiece was sent through the mail (i.e., was in Postal Service possession) and by utilizing the postmark date as evidence of the date of mailing (i.e., the date that the Postal Service accepted possession of the mailpiece).

For example, postmark dates are referenced in various federal court rules that concern the filing of specific documents; ¹ in analogous state court rules; ² in federal statutes such as the Internal Revenue Service's reliance on the postmark for evidence of timely filing; ³ and in state tax statutes and other laws.⁴

¹ Generally, the postmark date is not relevant in filings in federal courts. See, e.g., Fed. Rule App. P. 25(a)(2)(A)(i) (for nonelectronic filings, “filing is not timely unless the clerk receives the papers within the time fixed for filing”). There are, however, some limited exceptions, most notably Supreme Court Rule 29, which allows that “[a] document is timely filed if . . . it is sent to the Clerk through the United States Postal Service by first-class mail (including express or priority mail), postage prepaid, and bears a postmark, other than a commercial postage meter label, showing that the document was mailed on or before the last day for filing.”). See also Fed. R. App. P. 13(a)(2) (predicating appeals from U.S. Tax Court on the Internal Revenue Code's timely mailing provisions, under which notices of appeal sent by mail are considered to be filed as of the date on a postmark).

² Many state courts have adopted rules accepting the postmark as evidence of the date that certain types of documents were mailed and/or filed. By way of example, Rule 19.260 of the Oregon Rules of Civil Procedure provides that, regardless of the date of actual receipt by the court, the date of filing of the notice of appeal is the date of mailing, provided the notice is “[m]ailed by any class of mail from the United States Postal Service and the party filing the notice has proof from the United States Postal Service of the mailing date.” Furthermore, “[a]ny record of mailing or dispatch from the United States Postal Service . . . showing the date that the party initiated mailing or dispatch is sufficient proof of the date of mailing or dispatch.” Id. Finally, “[i]f the notice is mailed via the United States Postal Service first class mail, the date shown on the postmark affixed by the United States Postal Service constitutes sufficient proof of mailing or dispatch under this subsection.” Id.

³ Under 26 U.S.C. 7502(a), where tax documents and payments to the Internal Revenue Service (IRS) are sent by mail and are delivered after the prescribed due date, the date of the “United States postmark stamped on the cover in which such return, claim, statement, or other document, or payment, is mailed shall be deemed to be the date of delivery or the date of payment, as the case may be.”

⁴ Many state tax statutes (and/or accompanying regulations) incorporate postmarks in a manner similar to 26 U.S.C. 7502(a). See, e.g., ORS § 305.820 (a covered tax-related writing or remittance that is “[t]ransmitted through the United States mail . . . shall be deemed filed or received on the date shown by the cancellation mark or other record of transmittal, or on the date it was mailed or deposited if proof satisfactory to the addressee establishes that the actual mailing or deposit occurred on an earlier date.”). Similar postmarking provisions exist across a broad spectrum of state laws and regulations. To cite but one example, Illinois's Statute on Statutes provides that, unless an Act specifies otherwise, any writing or payment required or authorized to be filed with a state or local government “shall be deemed filed with or received by the State or political subdivision on the date shown by the post office cancellation mark stamped upon the envelope or other wrapper containing it.” 5 ILCS 70/1.25.

Furthermore, numerous election jurisdictions utilize the postmark to accept certain completed ballots as timely where they are sent by mail but are received after Election Day. Some voter registration laws similarly utilize the postmark to accept mailed registration forms that are received after the registration deadline.

Entities within the private sector (e.g., banks, insurers, regulated utilities companies) may also base “grace period” policies on the postmark in a manner analogous to the statutory and regulatory rules detailed above. That is, they may accept payments or other communications that arrive by mail after the stipulated deadline, provided that such payments or other communications were mailed before the stipulated deadline, as indicated by the Postal Service postmark.

II. Clarifying the Potential Uses and Limitations of the Postmark and Other Markings

Given the prevalence of third-party uses of the postmark to confirm that an item was sent by mail or as evidence of the date of mailing, the Postal Service is using this rulemaking as an opportunity to educate the public about the information that postmarks convey and the methods customers can use to confirm that the Postal Service had possession of a mailpiece and the date on which such possession occurred.

The Postal Service first accepts possession of a mailpiece under a variety of circumstances—for example, when a letter carrier collects a mailpiece from a mailbox or collection box, or when a postal retail associate accepts a mailpiece from a customer at a retail location. While the date on a postmark applied by automation in an originating processing facility often coincides with the date on which the Postal Service first accepted possession of the relevant mailpiece, the date of acceptance and the postmark date are not always in alignment, and this lack of alignment will become more common with the implementation of the Regional Transportation Optimization (RTO) initiative and the corresponding adoption of “leg”-based service standards. (90 FR 10857). However, there are other available ways to obtain proof of the date on which a mailpiece first entered the Postal Service's possession: for instance, customers can take advantage of the Postal Service's Certificate of Mailing service.

The postmark is not currently defined in any Postal Service regulation. The proposed DMM language will clearly define the postmark (including the significance of the date appearing on a postmark); will identify the various markings and indicia that qualify as postmarks, together with the locations at which such postmarks are applied; and will explain the information that such postmarks convey, specifically regarding the date when the Postal Service accepted possession of a mailpiece. It will then remind customers who wish to retain proof of the date on which the Postal Service first accepted possession of their mailpiece(s) of the services (including Certificates of Mailing) that provide such proof. Finally, it will identify certain auxiliary markings and scan data generated during the course of postal operations which indicate postal possession of a mailpiece (but not necessarily the date on which the Postal Service first accepted possession of a mailpiece). To be clear, and as noted above, this provision simply reflects in the DMM the Postal Service's current operational practices regarding postmarking, and makes no changes in that regard.

The proposed addition to the DMM described in this rulemaking would have no impact on philatelic sales and services (including philatelic postmarking), which will continue to be offered as described in Section 1702 of the Mail Classification Schedule and Section 608.4 of the DMM.

A. Postmarks and the Date of Postal Service Possession

The presence of a postmark on a mailpiece confirms that the Postal Service had possession of that mailpiece on that date (i.e., that the item was in the mailstream on the identified date). However, the postmark date does not necessarily indicate the first day that the Postal Service had possession of the mailpiece. Moreover, the absence of a postmark does not suggest that the Postal Service did not have possession of the mailpiece.

It is important to note that the Postal Service does not postmark every piece of mail in the normal course of operations. Much of our mail volume—such as Marketing Mail, Presort First-Class Mail, and metered mail presented to the Postal Service in trays—bypasses originating processing operations, including machine cancellation. And, while the Postal Service's operations are designed to postmark letters and flats that are entered as Single-Piece First-Class Mail and processed on automated cancellation machines, there are occasionally circumstances where a legible postmark is not applied, including where a mailpiece is stuck to another mailpiece when it runs through the cancelling machine, or where the machine runs out of ink or smears when applying postmarks.

We also caution that the dates on pre-printed labels applied by the customer prior to mailing—e.g., postage printed from Self-Service Kiosks (SSK), Click-N-Ship online postage, and meter strips—show merely that a customer has purchased or applied postage on a particular date; they do not in themselves demonstrate that the Postal Service accepted the mailpiece on the date indicated on the customer-applied label or postage.

B. The Meaning of the Postmark Date on a Mailpiece

Although every postmark contains a date, that date does not inherently align with the date that the Postal Service first accepted possession of a mailpiece. Rather, the postmark date represents the date on which a mailpiece was accepted at a retail location, or the date of the first automated processing operation performed on that mailpiece at a processing facility. Most postmarks fall into the latter group—that is, they are applied by machines in originating processing facilities. A mailpiece is not always entered into an originating processing facility on the same date that it was first tendered to the Postal Service, nor is it always processed on the same date that it arrived at a processing facility.⁵ As a result, the date of a postmark applied at a processing facility shows that a mailpiece was in the Postal Service's possession on that date but does not foreclose the possibility that the mailpiece was mailed before that date. In other words, the date on a machine-applied postmark may reflect the date on which the mailpiece was first accepted by the Postal Service, but that is not definitively the case. As noted, customers who wish to obtain a receipt containing the date when the Postal Service first accepted possession of a mailpiece can take advantage of one of the services (including the Certificate of Mailing service) that provide such receipts.

⁵ Note that the Postal Service deploys a “rollover” time on its processing machines to reflect the fact that originating operations for particular mailpieces occur overnight, and hence those operations can cross calendar days. The rollover time means that processing machines apply a cancellation mark reflecting the date of the originating operation for the mailpiece, even if the application of the postmark takes place after midnight. For example, if mail arrives at a plant at 10:00 p.m. and is scheduled for originating operation that operating day, but the AFCS operation is not complete until 4:00 a.m. the following calendar day, the postmark will nevertheless reflect the date that the mail arrived at the plant. However, there may be scenarios where mail will arrive at a processing facility on the day it is collected, but it is scheduled for originating operations on the next day, so that mail may not be cancelled on the date of entry.

Machine cancellations have never provided a perfectly reliable indicator of the date on which the Postal Service first accepted possession of a mailpiece, given Postal Service transportation schedules and other circumstances that can arise in the course of postal operations. For example, if a letter carrier returns late from a collection route, the mail collected on that route may miss the transportation to the processing facility on that day; or if a transportation trip from a retail unit to a processing facility is delayed, the mail on that truck may not arrive at the originating processing facility until the following day.

The RTO initiative will make the scenario where a postmark date does not align with the date that the Postal Service first accepted possession of a mailpiece more common. As explained in proceedings before the Postal Regulatory Commission, as well as in a recent rulemaking published in the Federal Register, local transportation operations within the legacy network have typically utilized separate trips for morning drop-offs of destinating mail and evening pick-ups of originating mail or paid contracted transportation to undergo layovers between morning pick-ups and evening drop-offs. (90 FR 10857). In ZIP Codes where at least one delivery unit is located beyond a 50-mile driving distance threshold of its servicing RPDC, RTO consolidates drop-offs of destinating mail and collections of originating mail on a single transportation route, which saves money, reduces carbon emissions, and benefits processing operations for a number of reasons. RTO properly aligns transportation operations with the fact that the landscape of mail acceptance has fundamentally changed: the volume of Single-Piece First-Class Mail has declined by 80 percent since Fiscal Year 1997 and now comprises a minority of First-Class Mail volume overall.

On such consolidated routes, a single truck generally drops off destinating volume in the morning, on the outgoing leg of the trip, and then proceeds to collect originating volume at locations in the line of travel of the return leg—though at some locations, pick-ups and drop-offs may occur at the same stop on the route. As a result, pick-ups of originating volume subject to RTO's consolidated transportation scheme will generally occur the day after such volume is tendered to the Postal Service by a customer. Thus, RTO-impacted volume that first enters postal possession on a weekday not immediately followed by a holiday will be transported to a facility to be processed (and, as appropriate, postmarked on our automated cancellation machines) the following day. With the elimination of Sundays and holidays as transit days for the purposes of service performance measurement (90 FR 10857), RTO-impacted volume that first enters postal possession on a Saturday may be processed (and, as appropriate, postmarked by the automated machinery) the following Monday—a gap of two days; similarly, RTO-impacted volume that first enters postal possession on a weekday immediately before a holiday will generally be processed (and, as appropriate, postmarked by the automated machinery) on the day after the holiday—also a gap of two days. Finally, RTO-impacted volume that first enters postal possession on a Saturday preceding a Monday-holiday may be processed (and as appropriate, postmarked by the automated machinery) on Tuesday—a gap of three days.

It is important that mailers understand the distinction between the date when the Postal Service first accepted possession of mailpiece and the date registered by machine-applied postmarks. If the mailpiece is destined for automated processing, a machine-applied postmark provides evidence of postal possession and shows both the location of the processing facility that applied the postmark and the date of the first automated processing operation performed on the mailpiece; but as noted above, it does not necessarily provide evidence of the precise date on which the Postal Service first accepted possession of the postmarked mailpiece. To be clear, however, any discrepancy between the date when the Postal Service first accepted possession and the date reflected on a postmark applied in a processing facility will be only one day in the vast majority of cases, and such discrepancy will generally exist only with respect to letter-and flat-shaped mailpieces that are both subject to RTO and cancelled at a processing facility. For mailpieces accepted within 50 miles of the servicing RPDC, the date on a postmark applied in a processing facility should generally continue to align with the date that the Postal Service first accepted possession of the mailpiece.

As noted above, manual (local) postmarking will continue to be offered on request at retail locations, and the dates indicated by such retail postmarks will align with the date on which the retail location (and therefore the Postal Service) accepted possession of the mailpiece. PVI labels likewise reflect the date on which the Postal Service accepted possession of the mailpiece. Customers may also obtain Certificates of Mailing as proof of the date on which their mailings were tendered to the Postal Service.

C. Stakeholder Input To Account for Third-Party Uses of the Postmark

In developing this rulemaking and the proposed DMM language below, the Postal Service engaged in discussions with different stakeholders, including industry mailers, private sector representatives, and state election officials, to better understand how they currently use postmarks (and postmark dates), and to develop language for the DMM that would be useful to those stakeholders. We believe we have accounted for most of the feedback from those discussions in this proposed rule. To the extent we have not, or if there are concerns not yet considered, we look forward to review of comments received as part of this process.

III. Services Proving the Date of Postal Acceptance

For customers who wish to retain a record or proof of the date on which the Postal Service first accepted possession of their mailpiece, the Postal Service offers extra services beyond the postmark that provide evidence of the date of a mailpiece's acceptance by the Postal Service. As described in Section 500.5 of the DMM, a Certificate of Mailing serves as a receipt, providing the mailer with evidence of the date on which a mailpiece was accepted by the Postal Service. As described in Sections 500.2 and 500.3 of the DMM respectively, Registered Mail and Certified Mail services also provide mailing receipts for individual mailpieces.

IV. Auxiliary Markings and Scan Data

During the course of postal operations, the Postal Service may inscribe markings on mailpieces and/or generate scan data. For example, individual mailpieces that are processed on automation machines (i.e., mailpieces that are not deposited through bulk or commercial methods) are typically imprinted with a fluorescent identification tag on the back of the piece. This tag encodes a variety of information, including the day and month on which the mailpiece was processed at an originating processing facility. Such encoded information is not readable without a scanner. Intelligent Mail®Barcode (IMb) scans provide another source of auxiliary data. IMbs are applied by customers to mailpieces—primarily to letters, flats, and cards (as well as to certain competitive product mailings, such as USPS Priority Mail®)—and encode a variety of data, including the identity of the mailer, the services requested, a serial number, and a routing code. The IMb itself does not verify Postal Service possession, as it is applied by a customer before a mailpiece is tendered to the Postal Service. But IMbs are typically scanned at various points in a mailpiece's trajectory, and each scan event reflects the time and place of the scan. Where the mailer includes unique serial numbers on each mailpiece containing an IMb, IMb scan data can be used to track the processing of specific mailpieces. Commercial mailers can access IMb scan data via the Informed Visibility interface. Please note that, for information generated by IMb scans to be accurate, IMbs must be properly prepared as specified in Section 204.1 of the DMM. Duplicate and/or illegible barcodes will compromise the availability and reliability of scan event data.

Such auxiliary markings and data indicate possession of a mailpiece; however, they do not constitute evidence of the date when the Postal Service first accepted possession of a mailpiece. Furthermore, the absence of these auxiliary markings or data does not indicate that the Postal Service did not accept possession of a mailpiece.

V. Request for Comments

Although exempt from the notice and comment requirements of the Administrative Procedure Act (5 U.S.C. 553(b), (c)) regarding proposed rulemaking by 39 U.S.C. 410(a)), the Postal Service invites comments on the proposed revisions to Mailing Standards of the United States Postal Service, Domestic Mail Manual (DMM), incorporated by reference in the Code of Federal Regulations. Input from customers, government entities, industry stakeholders, and other interested parties are welcome, particularly as regards the interests that they and/or their members or constituents may have in postmark dating. The Postal Service is also interested in feasible suggestions as to how any impact of this rulemaking on a commenter might be mitigated, including what information commenters believe would be helpful for the Postal Service to include, if not already captured, in the proposed DMM addition. Furthermore, the Postal Service plans to engage in customer outreach and education efforts beyond the current notice and rulemaking proceeding; recommendations regarding such efforts—for instance, how best to reach the public, and/or any particular segments of the public—are welcome. If the Postal Service decides to revise the DMM as proposed, it will publish a final rule in the Federal Register.

We will publish an appropriate amendment to 39 CFR part 111 to reflect these changes.

List of Subjects in 39 CFR Part 111

Administrative practice and procedure, Postal Service.

Accordingly, the Postal Service proposes the following changes to Mailing Standards of the United States Postal Service, Domestic Mail Manual (DMM), incorporated by reference in the Code of Federal Regulations (see 39 CFR 111.1):

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

* * * * *

600 Basic Standards for All Mailing Services

* * * * *

608 Postal Information and Resources

* * * * *

[Add the text of part 11 to read as follows:]

11.0 Postmarks and Postal Possession

11.1 Postmark Defined

A postmark is a marking, applied by the Postal Service to a mailpiece, which displays the location of the processing facility or retail unit that applied the marking and (if applied at a processing facility) the date of the first automated processing operation performed on that mailpiece, or (if applied at a retail unit) the date on which the mailpiece was accepted at that retail unit. Where necessary, a postmark also cancels postage so that it cannot be reused.

11.2 Locations at Which a Postmark is Applied

Postmarks are generally applied by the Postal Service via automation on machines in originating processing facilities but may also be applied manually by Postal Service personnel at those facilities, or by a Postal Service employee at a retail unit when a customer presents a mailpiece at a retail counter and requests a postmark.

• Automated Machine-Applied Postmarks. These are applied by automated cancellation machines located in originating processing facilities, including in Regional Processing and Distribution Centers and select Local Processing Centers. Automated machine-applied postmarks cancel postage and identify the processing facility that applied the postmark and the date of the first automated processing operation performed on that mailpiece. Mailpieces prepared according to certain criteria will bypass automated cancellation to improve delivery speed.

• Manual Postmarks on Non-Machinable Mail at Processing Facilities. Where a mailpiece that would ordinarily be postmarked on an automated cancellation machine is unable to be canceled, the Postal Service's common practice is to apply a manual postmark to the mailpiece at the originating processing facility. Like automated machine cancellations, these manual postmarks register the facility at which the mailpiece was received and the date that the first automated processing operation would have been performed on that mailpiece.

• Postmarks at Retail Locations. Manual (local) postmarks are available, upon a customer's request, at the retail counter of every Post Office, station, or branch. Manual (local) postmarks at retail locations cancel postage (if necessary), and indicate the location of the retail unit at which the postmark is applied and the date on which the mailpiece was accepted at that unit.

• Postage Validation Imprint (PVI) Labels at Retail Locations. These are printed by Postal Service employees at retail locations and are applied to a mailpiece by a Postal Service employee upon acceptance of the piece. These labels indicate the postage paid for a mailpiece and, like manual (local) postmarks applied at retail locations, indicate the location of the retail unit at which the postmark is applied and the date on which the mailpiece was accepted at that unit.

11.3 Information Conveyed by a Postmark

The presence of a postmark confirms that the Postal Service accepted custody of a mailpiece, and that the mailpiece was in the possession of the Postal Service on the identified date. However, for the reasons that are further described below, the postmark date does not necessarily indicate the first day that the Postal Service had possession of the mailpiece. Moreover, the absence of a postmark does not imply that the Postal Service did not accept custody of a mailpiece, because the Postal Service does not postmark all mail in the ordinary course of operations.

The location displayed on a postmark shows the processing facility or retail unit at which the postmark was applied. The date displayed on a postmark shows the date of the first automated processing operation performed on a mailpiece or, alternately, the date when a mailpiece was accepted at a retail unit. Because most postmarks are applied at processing facilities, they do not necessarily represent either the location at which or the date on which the Postal Service first accepted possession of the mailpiece. The date inscribed by a postmark applied at a processing facility may be later than the date that the mailpiece was first accepted by the Postal Service. See 11.5. for options available to customers who seek proof of the date on which the Postal Service first accepted custody of a mailpiece.

11.4 Postmarks Aligning With the Date of Acceptance

Customers who want a postmark aligning with the date on which the Postal Service first accepted possession of their mailpiece may request a manual (local) postmark at any Post Office, station, or branch when tendering their mailpiece. Because a manual (local) postmark is applied upon acceptance at the retail counter, the date on that postmark aligns with the date on which the Postal Service first accepted possession of the mailpiece. Similarly, the date on PVI labels, which are applied by Postal Service employees to a mailpiece for which a customer is simultaneously paying for postage and tendering the mailpiece for mailing, also aligns with the date on which the Postal Service first accepted possession of a mailpiece.

Please note that pre-printed labels applied by the customer prior to mailing—e.g., postage printed from Self-Service Kiosks (SSK), Click-N-Ship online postage, and meter strips—show merely that a customer has purchased postage and the date on which the postage was printed; they do not in themselves demonstrate that the Postal Service accepted the mailpiece, or the date on which any such acceptance occurred.

11.5 Services Proving the Date of Postal Acceptance

Customers who wish to retain a record or proof of the date on which the Postal Service first accepted possession of their mailpiece(s) are encouraged to purchase a Certificate of Mailing. As described more fully in Section 500.5, a Certificate of Mailing is a service designed to provide evidence that individual mailpieces have been presented for mailing. As described more fully in Sections 500.2 and 500.3 respectively, Registered Mail and Certified Mail services also provide mailing receipts for individual mailpieces.

11.6 Auxiliary Markings and Data

During the course of postal operations, the Postal Service may inscribe markings on mailpieces and/or generate scan data. Such auxiliary markings and data indicate possession of a mailpiece; however, they do not constitute evidence of the date when the Postal Service first accepted possession of a mailpiece. Furthermore, the absence of these auxiliary markings or data does not imply that the Postal Service did not accept possession of a mailpiece.

A non-exhaustive list of such auxiliary markings and data include:

• Identification Tags. Mailpieces processed on automated machines (i.e., mailpieces that are not deposited through bulk or commercial methods) are typically imprinted with a fluorescent identification tag. This tag encodes a variety of information, including the date on which the tag itself was applied.

• Scans of an Intelligent Mail® Barcode (IMb). As more fully described in Section 204.1, IMbs are applied by customers to mailpieces—primarily to letters, flats, and cards (as well as to certain competitive product mailings, such as USPS Priority Mail®)—and encode a variety of data, including the identity of the mailer, the services requested, a serial number, and a routing code. The IMb itself does not verify Postal Service possession, as it is applied by a customer before a mailpiece is tendered to the Postal Service. Rather, IMbs are typically scanned at various points in a mailpiece's trajectory, and each scan event reflects the time and place of the scan. Where the mailer includes unique serial numbers on each mailpiece containing an IMb, IMb scan data can be used to track the processing of specific mailpieces. Commercial mailers can access IMb scan data via the Informed Visibility interface. Please note that for information generated by IMb scans to be accurate, IMbs must be properly prepared as specified in Section 204.1. Duplicate and/or illegible barcodes will compromise the availability and reliability of scan event data.

* * * * *

Kevin Rayburn,
Attorney, Ethics & Legal Compliance.

[FR Doc. 2025-15266 Filed 8-11-25; 8:45 am]

BILLING CODE P